DEPARTMENT OF HEALTH AND HUMAN SERVICES

National Institutes of Health

Center for Scientific Review; Amended Notice of Meeting

Notice is hereby given of a change in the meeting of the Biophysics of Neural Systems Study Section, June 21, 2007, 8 a.m. to June 22, 2007, 4 p.m. Jurys Washington Hotel, 1500 New Hampshire Avenue, NW., Washington, DC 20032 which was published in the Federal Register on May 17, 2007, 72 FR 27828-27830.

The meeting will be held on June 21, 2007, from 8 a.m. to 8 p.m. The meeting location remains the same. The meeting is closed to the public.

Dated: May 21, 2007.
Jennifer Spaeth,
Director, Office of Federal Advisory Committee Policy.

[FR Doc. 07-2625 Filed 5-25-07; 8:45 am]

BILLING CODE 4140-01-M